ENVIRONMENTAL PROTECTION AGENCY

40 CFR Part 97

[EPA-HQ-OAR-2009-0491; FRL-9671-4]

RIN 2060-AR35

Revisions to Federal Implementation Plans To Reduce Interstate Transport of Fine Particulate Matter and Ozone

AGENCY: Environmental Protection Agency (EPA).

ACTION: Withdrawal of direct final rule.

SUMMARY: The EPA issued “Revisions to Federal Implementation Plans To Reduce Interstate Transport of Fine Particulate Matter and Ozone” as a direct final rule on February 21, 2012. Because the EPA received adverse comments on this action, we are withdrawing the direct final rule.

DATES: As of May 16, 2012, the EPA withdraws the direct final rule revisions published on February 21, 2012, at 77 FR 10342.

FOR FURTHER INFORMATION CONTACT: Jeremy Mark, U.S. Environmental Protection Agency, Clean Air Markets Division, MC 6204J, Ariel Rios Building, 1200 Pennsylvania Ave. NW., Washington, DC 20460, telephone (202) 343-9087, email at mark.jeremy@epa.gov. Electronic copies of this document can be accessed through the EPA Web site at: http://epa.gov/airmarkets.

SUPPLEMENTARY INFORMATION: The EPA issued “Revisions to Federal Implementation Plans To Reduce Interstate Transport of Fine Particulate Matter and Ozone” as a direct final rule on February 21, 2012. See 77 FR 10342. The direct final rule would have amended the preamble and rule text to the “Federal Implementation Plans: Interstate Transport of Fine Particulate Matter and Ozone and Correction of SIP Approvals” (Transport Rule), published August 8, 2011, to revise certain state emission budgets, variability limits, and new unit set-asides. Specifically, this direct final rule would have revised 2012 and/or 2014 state budgets and variability limits in Arkansas, Georgia, Indiana, Kansas, Louisiana, Mississippi, Missouri, New York, Nebraska, Ohio, Oklahoma, South Carolina, and Texas, and revised new unit set-asides in Arkansas, Louisiana, and Missouri. See 77 FR 10342.

The EPA also issued a parallel proposal on February 21, 2012, that proposed to make the same revisions outlined in the direct final rule. See 77 FR 10350. The EPA stated in the direct final rule revisions that if we received significant adverse comment by February 21, 2012, we would publish a timely notice of withdrawal of the direct final rule in the Federal Register.

The EPA received several comments on the direct final rule and the parallel proposal. Many of the comments support the specific revisions made in the direct final rule, but some are adverse or adverse in part. Generally, where the comments are adverse, they support the revisions that would have been made by the direct final rule but argue the revisions should have gone further. In addition, a number of the comments duplicate comments to which EPA has previously responded.

Because EPA received adverse comments, we are withdrawing the direct final rule, “Revisions to Federal Implementation Plans To Reduce Interstate Transport of Fine Particulate Matter and Ozone.” 77 FR 10342. The EPA intends to act on the parallel proposal as expeditiously as possible and will address relevant comments in that final action. As stated in the parallel proposal, the EPA will not institute a second comment period on this action.

List of Subjects in 40 CFR Part 97

Administrative practice and procedure, Air pollution control, Electric utilities, Nitrogen oxides, Reporting and recordkeeping requirements, Sulfur dioxide.

Dated: May 10, 2012.
Lisa P. Jackson,
Administrator.

PART 97—[AMENDED]

Accordingly, the revisions to the rule published in the Federal Register on February 21, 2012 (77 FR 10342) on pages 10342-10349 are withdrawn as of May 16, 2012.

[FR Doc. 2012-11845 Filed 5-15-12; 8:45 am]

BILLING CODE 6560-50-P